POSTAL REGULATORY COMMISSION

Sunshine Act Meetings

TIME AND DATE: Wednesday, June 9, 2010 at 11:30 a.m.

PLACE: Commission's main conference room, 901 New York Avenue, NW., Suite 200, Washington, DC 20268-0001.

STATUS: This meeting will be closed to the public.

MATTERS TO BE CONSIDERED:

1. Personnel: consideration of candidates for one or more officer-level positions (closed).

2. Personnel: discussion of staff-level vacancies (closed).

3. Contracts: discussion of confidential commercial information relative to Commission contracts (closed).

CONTACT PERSON FOR FURTHER INFORMATION: Brian Corcoran, Postal Regulatory Commission, at 202-789-6828 or brian.corcoran@prc.gov.

Dated: June 2, 2010.
Shoshana M. Grove,
Secretary.

[FR Doc. 2010-13553 Filed 6-2-10; 4:15 pm]

BILLING CODE 7710-FW-S